ELECTION ASSISTANCE COMMISSION

Proposed Information Collection; Election Administration in Urban and Rural Areas; Comment Request

AGENCY: U.S. Election Assistance Commission (EAC).

ACTION: Notice.

SUMMARY: In compliance with Section 3506(c)(2)(A) of the Paperwork Reduction Act of 1995, EAC announces an information collection and seeks public comment on the provisions thereof. The EAC, pursuant to 5 CFR 1320.5(a)(iii), intends to submit this proposed information collection (Election Administration in Urban and Rural Areas) to the Director of the Office of Management and Budget for approval. The Election Administration in Urban and Rural Areas survey asks election officials questions concerning voter outreach and election personnel. EAC will conduct the survey as a way to obtain data and information for a mandatory report to Congress as stipulated under HAVA 241 (B)(15), which requires EAC to study “[m]atters particularly relevant to voting and administering election in rural and urban areas.” Further, Section 202(3) of HAVA authorizes EAC to conduct studies and to carry out other duties and activities to promote the effective administration of Federal elections.

DATES: Written comments must be submitted on or before 4 p.m. EDT on April 23, 2012.

Comments: Public comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

Comments on the proposed information collection should be submitted electronically to HAVAinfo@eac.gov with Urban/Rural study as the subject line. Written comments on the proposed information collection can also be sent to the U.S. Election Assistance Commission, 1201 New York Avenue NW., Suite 300, Washington, DC 20005, ATTN: Urban/Rural Study.

Obtaining a Copy of the Survey: To obtain a free copy of the survey: (1) Access the EAC Web site at www.eac.gov; (2) write to the EAC (including your address and phone number) at U.S. Election Assistance Commission, 1201 New York Avenue NW., Suite 300, Washington, DC 20005, ATTN: Urban/Rural Study.

FOR FURTHER INFORMATION CONTACT: Ms. Karen Lynn-Dyson or Ms. Shelly Anderson at (202) 566-3100.

SUPPLEMENTARY INFORMATION:

Title and OMB Number: Election Administration in Urban and Rural Areas; OMB Number Pending.

Summary of the Collection of Information: The survey requests information at the local level concerning the following categories:

Background: (1) Number of years served as an election official; (2) number of registered voters; (3) jurisdiction described as urban or rural; (4) jurisdiction required to provide language assistance; (5) office have full responsibility for elections in the jurisdiction; (6) alternative forms of voting allowed in the jurisdiction (absentee-excuse required, no-excuse absentee, early voting, all vote-by-mail).

Voter Outreach: (7) Type of voter outreach provided to the public; (8) outreach efforts coordinated with third-party/civic organizations; type of voter outreach coordinated; type of organizations with which the jurisdiction works; (9) voter outreach activities that focus on specific groups; (10) cost of voter outreach efforts in 2010; (11) estimated cost of voter outreach efforts in 2012; (12) how voter outreach efforts were paid for; (13) ease or difficulty of engaging in voter outreach; (14) reasons outreach may have been difficult.

Personnel: (15) Number of paid full-time, part-time, and temporary staff in 2010; 16) number of poll workers used in 2010; (17) number of paid full-time, part-time, and temporary staff in 2012; (18) number of poll workers used in 2012; (19) poll worker pay; (20) sources for recruiting poll workers; (21) ease or difficulty of obtaining poll workers; (22) reasons obtaining poll workers may have been difficult; (23) jurisdiction offer split shifts for poll workers; (24) additional comments.

Affected Public (Respondents): Local governments that administer Federal elections.

Affected Public: Local government.

Number of Respondents: 5,000.

Responses per Respondent: 1.

Estimated Burden Per Response: 45 minutes.

Estimated Total Annual Burden Hours: 2,250 hours.

Frequency: One-time data collection.

Mark A. Robbins,
Acting Executive Director, U.S. Election Assistance Commission.

[FR Doc. 2012-3737 Filed 2-17-12; 8:45 am]

BILLING CODE 6820-KF-P